FEDERAL RETIREMENT THRIFT INVESTMENT BOARD

Notice of Board Meeting

DATES: March 28, 2023 at 10 a.m.

ADDRESSES: Telephonic. Dial-in (listen only) information: Number: 1-202-599-1426, Code: 800 699 968#; or via web: https://teams.microsoft.com/l/meetup-join/19%3ameeting_YjQxNDZmZjgtNjczYy00OGMyLTlkN2MtYzFlYTY5ZWQ0YWM3%40thread.v2/0?context=%7b%22Tid%22%3a%223f6323b7-e3fd-4f35-b43d-1a7afae5910d%22%2c%22Oid%22%3a%227c8d802c-5559-41ed-9868-8bfad5d44af9%22%7d.

FOR FURTHER INFORMATION CONTACT: Kimberly Weaver, Director, Office of External Affairs, (202) 942-1640.

SUPPLEMENTARY INFORMATION:

Board Meeting Agenda

Open Session

1. Approval of the February 28, 2022 Board Meeting Minutes

2. Investment Manager Annual Service Review (BlackRock)

3. Monthly Reports

(a) Participant Activity Report

(b) Investment Report

(c) Legislative Report

4. Quarterly Report

(d) Vendor Risk Management

5. Enterprise Risk Management Update

6. Internal Audit Update

Closed Session

7. Information covered under 5 U.S.C. 552b(c)(9)(B) and (c)(10).

Authority: 5 U.S.C. 552b(e)(1).

Dated: March 13, 2023.
Dharmesh Vashee,
General Counsel, Federal Retirement Thrift Investment Board.

[FR Doc. 2023-05373 Filed 3-15-23; 8:45 am]

BILLING CODE P